FEDERAL COMMUNICATIONS COMMISSION

47 CFR Part 73

[DA 02-367; MM Docket No. 02-31, RM-10351]

Radio Broadcasting Services; Memphis, TN, Olive Branch & Horn Lake, MS

AGENCY: Federal Communications Commission.

ACTION: Proposed rule.

SUMMARY: This document requests comments on a petition filed by Clear Channel Broadcasting Licenses, Inc. the reallotment of Channel 239A from Olive Branch, Mississippi, to Horn Lake, Mississippi, and modification of the license for Station WOTO at coordinates 35-04-19 and 89-59-13. To ensure local service at Olive Branch, Clear Channel has requested the reallotment of Channel 266C1 from Memphis, Tennessee to Olive Branch, Mississippi, and modification of the license for Station KJMS at coordinates 35-08-01 and 90-05-38. In accordance with Section 1.420(i) of the Commission's Rules, we shall not accept competing expressions of interest in the use of Channel 239A to Olive Branch and Channel 266C1 at Horn Lake.

DATES: Comments must be filed on or before April 8, 2002, and reply comments on or before April 23, 2002.

ADDRESSES: Federal Communications Commission, Washington, DC 20554. In addition to filing comments with the FCC, interested parties should serve the petitioner's counsel, as follows: Marissa G. Repp, F. William LeBeau, Hogan & Hartson L.L.P., 555—13th Street, NW., Washington, DC 20004-1109.

FOR FURTHER INFORMATION CONTACT: Kathleen Scheuerle, Mass Media Bureau, (202) 418-2180.

SUPPLEMENTARY INFORMATION: This is a summary of the Commission's Notice of Proposed Rule Making, MM Docket No. 02-31, adopted February 6, 2002, and released February 15, 2002. The full text of this Commission decision is available for inspection and copying during normal business hours in the FCC Reference Information Center, Portals II, 445 12th Street, SW, Room CY-A257, Washington, DC, 20554. This document may also be purchased from the Commission's duplicating contractor, Qualex International, Portals II, 445 12th Street, SW, Room CY-B402, Washington, DC, 20554, telephone 202-863-2893, facsimile 202-863-2898, or via e-mail qualexint@aol.com.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Mississippi, is amended by removing Channel 239A and adding Channel 266C1 at Olive Branch and by adding Horn Lake, Channel 239A.

3. Section 73.202(b), the Table of FM Allotments under Tennessee, is amended by removing Channel 266C1 at Memphis.

Federal Communications Commission.
John A. Karousos,
Chief, Allocations Branch, Policy and Rules Division, Mass Media Bureau.

[FR Doc. 02-7190 Filed 3-26-02; 8:45 am]

BILLING CODE 6712-01-P